ENVIRONMENTAL PROTECTION AGENCY

40 CFR Part 52

[TX-119-1-7448b; FRL-6886-2]

Approval and Promulgation of Implementation Plans; Texas; Water Heaters, Small Boilers, and Process Heaters; Agreed Orders; Major Stationary Sources of Nitrogen Oxides for the Beaumont/Port Arthur Ozone Nonattainment Area

AGENCY: Environmental Protection Agency (EPA).

ACTION: Proposed rule.

SUMMARY: The EPA is proposing to take direct final action on revisions to the Texas State Implementation Plan. This rulemaking covers four separate actions. First, we are approving revisions to the Nitrogen Oxides (NOX) SIP to add a rule for water heaters, small boilers, and process heaters sold and installed in Texas (the Texas Water Heater Rule). This rule will contribute to attainment of the 1-hour ozone standard in the Beaumont/Port Arthur (B/PA), Houston/Galveston (H/GA), and Dallas/Fort Worth (D/FW) nonattainment areas and will contribute to continued maintenance of the standard in the rest of the State of Texas. Second, we are approving revisions to the Texas NOX SIP for certain major stationary point source categories in the B/PA ozone nonattainment area. These new limits for certain stationary point sources will contribute to attainment of the 1-hour ozone standard in the B/PA area. Third, we are approving revisions to the existing approved Texas NOX Reasonably Available Control Technology SIP because the changes are administrative in nature. Fourth, we are approving two Agreed Orders between the State of Texas and two companies in Northeast Texas. These Orders will contribute to attainment of the 1-hour ozone standard in the B/PA, H/GA, and D/FW nonattainment areas and will contribute to continued maintenance of the standard in the eastern half of the State of Texas.

The EPA is approving these revisions to regulate emissions of Nitrogen dioxide in accordance with the requirements of the Federal Clean Air Act.

In the “Rules and Regulations” section of this Federal Register, EPA is approving the State's SIP revision as a direct final rule without prior proposal because the EPA views this as a noncontroversial revision and anticipates no adverse comment. The EPA has explained its reasons for this approval in the preamble to the direct final rule. If EPA receives no relevant adverse comments, the EPA will not take further action on this proposed rule. If EPA receives relevant adverse comment, EPA will withdraw the direct final rule and it will not take effect. The EPA will address all public comments in a subsequent final rule based on this proposed rule. The EPA will not institute a second comment period on this action. Any parties interested in commenting must do so at this time. Please note that if we receive adverse comment(s) on an amendment, paragraph, or section of this rule and if that provision is independent of the remainder of the rule, we may adopt as final those provisions of the rule that are not the subject of an adverse comment.

DATES: Written comments must be received by November 27, 2000.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733.

Texas Natural Resource Conservation Commission, Office of Air Quality, 12124 Park 35 Circle, Austin, Texas 78753.

FOR FURTHER INFORMATION CONTACT: Mr. Alan Shar, P.E., Air Planning Section (6PD-L), EPA Region 6, 1445 Ross Avenue, Dallas, Texas 75202-2733, telephone (214) 665-6691.

SUPPLEMENTARY INFORMATION: This document concerns Control of Air Pollution from Nitrogen Compounds for major stationary sources in the B/PA ozone nonattainment area and the control measures for attainment demonstration purposes. For further information, please see the information provided in the direct final action that is located in the “Rules and Regulations” section of this Federal Register publication.

Authority: 42 U.S.C. 7401 et seq.

Dated: October 3, 2000.
Myron O. Knudson,
Acting Regional Administrator, Region 6.

[FR Doc. 00-27030 Filed 10-25-00; 8:45 am]

BILLING CODE 6560-50-P